DEPARTMENT OF COMMERCE

International Trade Administration

[A-570-890]

Wooden Bedroom Furniture From The People's Republic of China: Notice of Partial Rescission of the Antidumping Duty Administrative Review

AGENCY: Import Administration, International Trade Administration, Department of Commerce.

SUMMARY: On March 7, 2006, the Department of Commerce (“the Department”) initiated the first administrative review of the antidumping duty order on wooden bedroom furniture from the People's Republic of China (“PRC”) covering the period June 24, 2004, through December 31, 2005. See Notice of Initiation of Administrative Review of the Antidumping Duty Order on Wooden Bedroom Furniture from the People's Republic of China, 71 FR 11394 (March 7, 2006) (“Initiation Notice”). Between March 7, 2006, and June 5, 2006, several parties withdrew their requests for review. Therefore, the Department is rescinding the administrative review of sales of wooden bedroom furniture with respect to the entities for whom all review requests have been withdrawn.

DATES: Effective Date: June 30, 2006.

FOR FURTHER INFORMATION CONTACT: Robert Bolling, AD/CVD Operations, Office 8, Import Administration, International Trade Administration, U.S. Department of Commerce, 14th Street and Constitution Avenue, NW., Washington, DC 20230; telephone: (202) 482-3434.

SUPPLEMENTARY INFORMATION: On January 4, 2005, the Department published in the Federal Register the antidumping duty order on wooden bedroom furniture from the PRC. See Notice of Amended Final Determination of Sales at Less Than Fair Value and Antidumping Duty Order: Wooden Bedroom Furniture from the People's Republic of China, 70 FR 329 (January 4, 2005). On January 3, 2006, the Department published a notice of opportunity to request an administrative review of the antidumping duty order on wooden bedroom furniture from the PRC for the period June 24, 2004 through December 31, 2005. See Antidumping or Countervailing Duty Order, Finding, or Suspended Investigation: Opportunity to Request Administrative Review, 71 FR 89 (January 3, 2006).

The Department received multiple timely requests for review and on March 7, 2006, in accordance with section 751(a) of Tariff Act of 1930, as amended (“the Act”), published in the Federal Register a notice of the initiation of the antidumping duty administrative review of wooden bedroom furniture from the PRC for the 2004-2005 period of review. See Initiation Notice.

Partial Rescission of Review

Pursuant to 19 CFR 351.213(d)(1), the Department will rescind an administrative review, in whole or in part, if a party that requested a review withdraws the request within 90 days of the date of publication of the notice of initiation. Because all requesting parties withdrew their respective requests for review of the following entities, the Department is rescinding this review with respect to these entities, in accordance with 19 CFR 351.213(d)(1):

• Art Heritage International Ltd., Super Art Furniture Co. Ltd., Artwork Metal & Plastic Co., Ltd., Jibson Industries, Always Loyal International.

• Dalian Guangming Furniture Co., Ltd.

• Dalian Huafeng Furniture Co., Ltd.

• Dongguan Cambridge Furniture Co., Ltd., Glory Oceanic Co., Ltd.

• Dongguan Lung Dong Furniture Co., Ltd., Dongguan Dong He Furniture Co., Ltd., Engmost Investment Ltd.

• Dongguan Sunrise Furniture Co., Taicang Sunrise Wood Industry Co., Ltd, Shanghai Sunrise Furniture Co., Ltd., Fairmont Designs

• Dream Rooms Furniture (Shanghai) Co., Ltd.

• Ever Spring Furniture Co., Ltd., S.Y.C. Family.

• Gaomi Yatai Wooden Ware Co., Ltd., Team Prospect International Ltd.

• Jiangmen Kinwai Furniture Decoration Co., Ltd., Jiangmen Kinwai International Furniture Co., Ltd.

• Lacquer Craft Mfg. Co., Ltd., Samson Holding Ltd., Samson International Enterprises, Legacy Classic Furniture, Universal Furniture International Inc.

• Langfang TianCheng Furniture, Huari Furniture.

• Leefu Wood (Dongguan) Co., Ltd., King Rich International, Ltd.

• Locke Furniture Factory, Kai Chan Furniture Co. Ltd., Kai Chan (Hong Kong) Enterprise Ltd., Taiwan Kai Chan.

• Nathan International Ltd., Nathan Rattan Factory, Nathan China Group.

• Ningbo Furniture Industries Ltd., Ningbo Fubang Furniture Industries Limited, Techniwood Industries Limited, Techniwood (Macao Commercial Offshore) Limited, Ningbo Techniwood Furniture Industries Limited.

• RiZhao SanMu Woodworking Co., Ltd., RiZhao SanMu Woodworking Group.

• Rui Feng Woodwork (Dongguan) Co., Rui Feng Lumber Development (Shenzhen) Co., Ltd.

• Sunforce Furniture (Hui-Yang) Co., Ltd., SunFung Wooden Factory, Sun Fung Co., Shin Feng Furniture Co. Ltd., Stupendous International Co. Ltd.

• Tianjin Sande Fairwood Furniture Co., Ltd.

• Tradewinds Furniture Ltd., Fortune Glory Industrial Ltd. (HK Ltd.) Nanhai Jiantai Woodwork Co., Ltd.

• Wanhengton Nueevder (Furniture) Manufacture Co., Ltd., Dongguan Wanhengton Industry Co., Ltd.

• Yihua Timber Industries Co., Ltd., New Classic Home Furnishings, Inc.

• Zhongshan Golden King Furniture Industrial Co., Ltd., King Group Furniture.

Assessment

The Department will instruct U.S. Customs and Border Protection (“CBP”) to assess antidumping duties on all appropriate entries for the above-named entities. For those companies for which this review has been rescinded, antidumping duties shall be assessed at rates equal to the cash deposit of estimated antidumping duties required at the time of entry, or withdrawal from warehouse, for consumption, in accordance with 19 CFR 351.212(c)(1)(i). The Department will issue appropriate assessment instructions directly to CBP within 15 days of publication of this notice in the Federal Register.

In addition, the Department is rescinding this review with respect to the following entities which did not receive a separate rate in the prior segment (the less-than-fair-value investigation) of this proceeding. For purposes of initiation of this administrative review, the Department accepted requests for review of these entities based upon the premise that such entities would seek to demonstrate in this review that they were, in law and in fact, separate from the PRC-wide entity, and therefore, entitled to a rate separate from the rate established for the PRC-wide entity. However, as the requests for review of these entities have been withdrawn, these entities may be subject to this review as part of the single PRC-wide entity.¹ Therefore, the Department will provide assessment instructions to CBP for these entities after the final results of this administrative review.

¹ If one of the above-named companies does not qualify for a separate rate, all other exporters of wooden bedroom furniture from the PRC that have not qualified for a separate rate are deemed to be covered by this review as part of the single PRC entity of which the named exporter is a part.

• Birchfield Design Group, Inc., Birchfield Design (Asia), Ltd., Dongguan Birchfield Gifts Co., Ltd., Donnguan Longreen Birchfield Arts & Craft Co., Ltd.

• Chiu's Faithful Furniture (Shenzhen) Company Limited, Faithful International Trading (Hong Kong) Company Limited.

• Dawn Smart Furniture Co., Ltd.

• Fujian Senda Foreign Trade Co., Ltd.

• Honest Furniture Company Ltd.

• Maestro Wood Product Factory.

• Million Kind Co., Ltd.

• Million Kind Furniture Co., Ltd. Million Kind Co., Ltd.

• Placetech Co., Ltd.

• Protrend Metal & Plastics (Shenzhen) Co., Ltd.

• Senyuan Furniture Group.

• Trendex Industries Ltd., Trendex Industries Ltd., (BVI), Dongguan Chunsan Wood Products Co., Ltd., Kunshan Junsen Furniture Co., Ltd.

• Triple J Furniture (Shenzhen) Co., Ltd.

• WBE Industries (Hui-Yang) Co., Ltd.

• Yixinglong Furniture Co., Ltd.

• Zhongshan Fine Furniture.

• Zhongshan Winly Furniture Ltd.

The review will continue with respect to all other entities identified in the Initiation Notice.

Notification to Importers

This notice serves as a final reminder to importers of their responsibility under 19 CFR 351.402(f) to file a certificate regarding the reimbursement of antidumping duties prior to liquidation of the relevant entries during this review period. Failure to comply with this requirement could result in the Secretary's assumption that reimbursement of antidumping duties occurred and subsequent assessment of double antidumping duties.

Notification Regarding Administrative Protective Orders (“APOs”)

This notice also serves as a reminder to parties subject to APOs of their responsibility concerning the return or destruction of proprietary information disclosed under an APO in accordance with 19 CFR 351.305, which continues to govern business proprietary information in this segment of the proceeding. Timely written notification of the return/destruction of APO materials or conversion to judicial protective order is hereby requested. Failure to comply with the regulations and terms of an APO is a violation which is subject to sanction.

This notice is in accordance with section 777(i)(1) of the Tariff Act of 1930, as amended, and 19 CFR 351.213(d)(4) of the Department's regulations.

Dated: June 22, 2006.
Stephen J. Claeys,
Deputy Assistant Secretary for Import Administration.

[FR Doc. E6-10291 Filed 6-29-06; 8:45 am]

BILLING CODE 3510-DS-P